BUREAU OF CONSUMER FINANCIAL PROTECTION

Notice of Availability of the Determination for Eligibility for Listing on the Historic Register

AGENCY: Bureau of Consumer Financial Protection.

ACTION: Notice.

SUMMARY: The Consumer Financial Protection Bureau (CFPB) is issuing this notice to advise the public that, on July 24, 2013, the CFPB prepared and submitted a recommendation to the State Historical Preservation Office for eligibility for listing on the historic register for the building located at 1700 G Street, NW., Washington, DC. The building is currently used as the headquarters for the Consumer Financial Protection Bureau (CFPB). Originally built in 1976, the building has three below ground levels that extend beneath a large public courtyard (two of which include secured parking) and seven floors above ground with the highest reserved for mechanical equipment. Storefront retail is located at the ground level. The CFPB and its consultants prepared the final Determination for Eligibility for Listing on the Historic Register, dated July 24, 2013, in accordance with the provisions of § 106 of the National Historic Preservation Act.,

DATES: Comments must be received no later than 25 September 2013. The Determination for Eligibility for Listing on the Historic Register is available as of the publication date of this notice.

ADDRESSES: Interested parties may request copies of the Determination for Eligibility for Listing on the Historic Register from: Consumer Financial Protection Bureau, Facilities Office—Projects, 1700 G Street NW., Washington, DC, 20552. You may submit comments by any of the following methods:

• Electronic: michael.davis@cfpb.gov.

• Mail/Hand Delivery/Courier: Michael Davis, Project Manager, Consumer Financial Protection Bureau, 1700 G Street NW., Washington, DC 20552. All comments, including attachments and other supporting materials, will become part of the public record and subject to public disclosure. You should submit only information that you wish to make available publicly.

FOR FURTHER INFORMATION CONTACT: Michael Davis, Project Manager, Office of Administrative Operations, at (202) 435-9405.

SUPPLEMENTARY INFORMATION: The office building at 1700 G Street, NW., currently occupied by the Consumer Financial Protection Bureau (CFPB), was originally designed by Max Urbahn Associates (now Urbahn Architects) and constructed between 1974-1977. The building is immediately west and north of the Winder Building, which is listed in the National Register of Historic Places (NRHP). To address the potential individual eligibility of this property, CFPB representatives and their consultants consulted key resources as part of a background review to put this building within a historic, social, architectural, and landscape context. This included the General Services Administration (GSA) study Growth, Efficiency, and Modernism: GSA Buildings of the 50s, 60s, and 70s (Robinson & Associates 2005), which provides an in-depth historical context on federal buildings of the Modern era, several newspaper and journal articles on file with the CFPB, books on the development and architecture of Washington, DC, interviews, and historic maps. To assess the building's potential eligibility, resources such as the previously mentioned GSA study, the American Institute of Architects Guide to Architecture of Washington, DC, and the Society of Architectural Historian's Buildings of the District of Columbia were consulted for a context of other buildings in the area. Fieldwork was conducted on June 25 and July 11, 2013. The building was evaluated for architectural significance as well as historic and physical integrity. This resource was documented through written notes and digital photography. The information obtained during the survey was then used to create the DOE form and make recommendations on the property's NRHP potential.

Dated: August 21, 2013.
Christopher D'Angelo,
Chief of Staff, Bureau of Consumer Financial Protection.

[FR Doc. 2013-20897 Filed 8-28-13; 8:45 am]

BILLING CODE 4810-AM-P